DEPARTMENT OF THE INTERIOR

National Park Service

Native American Graves Protection and Repatriation Review Committee: Meeting

AGENCY: National Park Service, Interior.

ACTION: Notice of change of public meeting.

SUMMARY: The Native American Graves Protection and Repatriation Review Committee meeting scheduled for November 21-23, 2003, in Albuquerque, NM, and announced in the Federal Register on April 8, 2003 (FR Doc. 03-8506), is rescheduled for early in 2004. A notice will be published in the Federal Register when dates and other details for the next Review Committee meeting have been determined.

FOR FURTHER INFORMATION CONTACT: Martha Graham, Program Officer, National NAGPRA, telephone (202) 354-2202, facsimile (202) 371-5197, or e-mail martha_graham@nps.gov.

SUPPLEMENTARY INFORMATION: National NAGPRA consultation meetings and training sessions scheduled to be held in Albuquerque, NM, November 18-20, 2003, will be held as planned.

Dated: October 9, 2003.
John Robbins,
Designated Federal Officer, NAGPRA Review Committee.

[FR Doc. 03-28845 Filed 11-18-03; 8:45 am]

BILLING CODE 4310-70-S